DEPARTMENT OF HEALTH AND HUMAN SERVICES

Administration for Children and Families

Statement of Organization, Functions and Delegation of Authority

Notice is hereby given that I have delegated to the Deputy Director/Commissioner, Office of Child Support Enforcement, the following authority vested in me by the Secretary of Health and Human Services in memoranda dated August 20, 1991, Delegations of Authority for Social Security Act Programs and September 16, 1997, Delegations of Authority for the Personal Responsibility and Work Opportunity Reconciliation Act of 1996 (Pub. L. 104-193).

(a) Authorities Delegated

1. Authority to administer the provisions of the Child Support and Establishment of Paternity Program under Title IV-D of the Social Security Act, and as amended now and hereafter.

2. Authority under section 409(a)(8) of the Social Security Act to make determinations regarding State compliance or performance and technical noncompliance and to impose penalties and the authority under section 410(a) of the Social Security Act to issue notices to States regarding the imposition of such penalties.

(b) Limitations

1. This delegation of authority shall be exercised under the Department's existing policies on delegations and regulations.

2. This delegation of authority does not include the authority to submit reports to Congress and shall be exercised under financial and administrative requirements applicable to all Administration for Children and Families' authorities.

3. The approval or disapproval of grant applications and incentive payments under Title IV-D of the Social Security Act require concurrence of the appropriate Grants Officer. The approval or disapproval of contract proposals and awards are subject to the requirements of the Federal Acquisition Regulations and requires the concurrence of the Contracting Officer.

4. This delegation of authority does not include the authority to disapprove Title IV-D State Plans and amendments.

5. This delegation of authority does not include the authority to appoint Action Officials for Audit Resolution.

6. This delegation of authority does not include the authority to sign and issue notices of grant awards.

7. This delegation of authority does not include the authority to appoint Central Office or Regional Office Grant Officers for the administration of child support enforcement (CSE) related grant programs.

8. This delegation of authority does not include the authority to approve or disapprove State requests for Federal financial participation for the costs of automated data processing equipment and services that affect more than one HHS Operating Division.

9. This delegation of authority does not include the authority to hold hearings.

10. Any redelegation shall be in writing and prompt notification must be provided to all affected managers, supervisors, and other personnel, and requires the concurrence of the Deputy Assistant Secretary for Administration.

(c) Effect on Existing Delegations

As related to this delegation of authority, this delegation supersedes all previous delegations of authority involving the administration of the authorities delegated herein.

(d) Effective Date

This delegation was effective upon the date of signature.

I hereby affirm and ratify any actions taken by the Deputy Director/Commissioner, Office of Child Support and Enforcement, which involved the exercise of the authorities delegated herein prior to the effective date of this delegation.

Dated: February 16, 2007.
Wade F. Horn,
Assistant Secretary for Children and Families.

[FR Doc. E7-3323 Filed 2-26-07; 8:45 am]

BILLING CODE 4184-01-P